DEPARTMENT OF COMMERCE

National Oceanic and Atmospheric Administration

50 CFR Part 622

[Docket No. 0612243157-7232-03]

RIN 0648-AT87

Fisheries of the Caribbean, Gulf of Mexico, and South Atlantic; Reef Fish Fishery and Shrimp Fishery of the Gulf of Mexico; Amendment 27/14

AGENCY: National Marine Fisheries Service (NMFS), National Oceanic and Atmospheric Administration (NOAA), Commerce.

ACTION: Proposed rule; request for comments.

SUMMARY: NMFS issues this proposed rule that would implement a joint Amendment 27 to the FMP for the Reef Fish Resources of the Gulf of Mexico (Reef Fish FMP) and Amendment 14 to the Fishery Management Plan (FMP) for the Shrimp Fishery of the Gulf of Mexico (Shrimp FMP)(Amendment 27/14) prepared by the Gulf of Mexico Fishery Management Council (Council). This proposed rule would reduce the commercial and recreational quotas for red snapper, reduce the commercial minimum size limit for red snapper, reduce the recreational bag limit for red snapper, prohibit the retention of red snapper under the bag limit for the captain and crew of a vessel operating as a charter vessel or headboat, require the use of non-stainless steel circle hooks when using natural baits to fish for Gulf reef fish, require the use of venting tools and dehooking devices when participating in the commercial or recreational reef fish fisheries, and provide for seasonal closures of the Gulf shrimp fishery to reduce red snapper bycatch consistent with the Amendment's framework procedure. In addition, the proposed rule would establish a target reduction of shrimp trawl bycatch mortality of red snapper, assume a 10-percent reduction in post-hurricane fishing effort and landings when evaluating alternative TACs and management measures or in the alternative, not assume the 10% effort reduction, and establish a framework procedure to adjust the target effort level and closed season for the Gulf shrimp fishery. The measures contained in this proposed rule are intended to satisfy a U.S. District Court Order to establish a revised red snapper rebuilding plan by December 12, 2007, and to end overfishing of the red snapper resource in the Gulf of Mexico.

DATES: Written comments must be received on or before December 7, 2007.

ADDRESSES: You may submit comments on the proposed rule by any of the following methods:

• E-mail: 0648-AT87.Proposed27-14@noaa.gov. Include in the subject line the following document identifier: 0648-AT87.Proposed27-14.

• Federal e-Rulemaking Portal: http://www.regulations.gov. Follow the instructions for submitting comments.

• Mail: Peter Hood, Southeast Regional Office, NMFS, 263 13th Avenue South, St. Petersburg, FL 33701.

• Fax: 727-824-5308; Attention: Peter Hood.

Instructions: All comments received are a part of the public record and will generally be posted to http://www.regulations.gov without change. All Personal Identifying Information (for example, name, address, etc.) voluntarily submitted by the commenter may be publicly accessible. Do not submit Confidential Business Information or otherwise sensitive or protected information.

Copies of Amendment 27/14, which include a supplemental environmental impact statement (SEIS), an initial regulatory flexibility analysis (IRFA), a regulatory impact review (RIR), and a fishery impact statement, may be obtained from the Gulf of Mexico Fishery Management Council, 2203 North Lois Avenue, Suite 1100, Tampa, FL 33607; telephone 813-348-1630; fax 813-348-1711; e-mail gulfcouncil@gulfcouncil.org; or may be downloaded from the Council's Web site at http://www.gulfcouncil.org/.

FOR FURTHER INFORMATION CONTACT: Peter Hood, telephone 727-824-5305; fax 727-824-5308; e-mail peter.hood@noaa.gov.

SUPPLEMENTARY INFORMATION: The reef fish and shrimp fisheries of the Gulf of Mexico are managed under their respective FMPs (Reef Fish FMP and Shrimp FMP). The FMPs were prepared by the Gulf of Mexico Fishery Management Council (Council) and are implemented through regulations at 50 CFR part 622 under the authority of the Magnuson-Stevens Fishery Conservation and Management Act (Magnuson-Stevens Act).

Background

Multiple fisheries influence the status of the red snapper stock in the Gulf of Mexico, including the commercial and recreational red snapper fisheries and the shrimp trawl fishery, which takes red snapper incidentally when harvesting shrimp. A 2005 stock assessment concluded the Gulf of Mexico red snapper stock is overfished and undergoing overfishing, and red snapper fishing mortality rates are too high in both the directed and shrimp fisheries. In response to the 2005 assessment, the Council began drafting Amendment 27/14 to address overfishing and revise the red snapper rebuilding plan. In August 2006, the Council voted to delay consideration of the amendment until January 2007, pending completion of 2006 recreational effort and landings data and shrimp effort data.

On March 12, 2007, the United States District Court for the Southern District of Texas, Houston Division, issued a ruling on legal challenges to the current red snapper rebuilding plan contained in Amendment 22 to the Reef Fish FMP (Coastal Conservation Association v. Gutierrez et al., Case No. H-05-1214, consolidated with Gulf Restoration Network et al., v. Gutierrez et al., Case No. H-05-2998). The Court required a new rebuilding plan by December 12, 2007. However, consistent with the Court ruling, if the revised rebuilding plan cannot be implemented by December 12, 2007, additional rule-making may be required to implement one or more of the measures contained in Amendment 27/14 on an interim basis.

Therefore, to reduce fishing mortality and maintain stock rebuilding in the interim, NMFS published a temporary rule, effective May 2, 2007 (72 FR 15617, April 2, 2007). The temporary rule reduced the recreational quota from 4.47 million lb (2.03 million kg) to 3.185 million lb (1.445 million kg), and the commercial quota from 4.65 million lb (2.11 million kg) to 3.315 million lb (1.504 million kg). The recreational bag limit was reduced from four fish to two fish per person per day to constrain the recreational harvest to its quota during the existing April 21 through October 31 fishing season. The commercial minimum size limit was reduced from 15 inches (38 cm) total length (TL) to 13 inches (33 cm) TL to reduce discard mortality. To reduce red snapper bycatch mortality in the shrimp fishery, a target reduction goal was established to reduce red snapper bycatch mortality by at least 50 percent compared to the bycatch mortality rate during the 2001-2003 time period. Under the Magnuson-Stevens Act, NMFS has the ability to extend these interim measures if necessary.

The measures in the temporary rule and this proposed rule are consistent with the March 12, 2007 Court ruling. The measures in the proposed rule are designed to address long-term reductions in red snapper fishing mortality rates of the directed red snapper fisheries, shrimp fishery, and other reef fish fisheries.

Revised Rebuilding Plan

The proposed actions are intended to implement revisions to the Council's red snapper rebuilding plan with a goal of having at least a 50-percent probability of ending overfishing for red snapper between 2009 and 2010 and rebuilding the stock to the biomass level associated with maximum sustainable yield (MSY) by 2032. Under the proposed actions, the probability of ending overfishing by 2010 is estimated to be greater than 50 percent. The annual total allowable catch (TAC) during the first 3 years of the plan is 0.3 million lb (0.136 million kg) lower than the maximum annual TAC allowed under the rebuilding projections. Although the rebuilding plan does not account for additional reductions in release mortality expected from the proposed required use of circle hooks, dehooking devices, and venting tools, these proposed measures would further increase the probability of ending overfishing by 2010. Also, NMFS continues to develop bycatch reduction devices (BRDs) which promise better performance than those presently used in the shrimp fishery.

Beginning in 2011, the recommended revisions to the rebuilding plan would allow for harvest levels to begin increasing, while maintaining greater than a 50-percent probability of rebuilding the red snapper stock by the target date of 2032. Future TACs and quotas are modeled around yields associated with a fishing mortality producing MSY (proxy = 26-percent spawning potential ratio), in association with achieving needed reductions in bycatch and discard mortality in both the directed and shrimp fisheries. Under the recommended revisions to the rebuilding plan, the TAC would increase to 7.0 million lb (3.175 million kg) in 2011, and reach 14.0 million lb (6.35 million kg) by 2032. The recommended revisions to the rebuilding plan would also allow the shrimp bycatch mortality reduction target to drop from 74 percent in 2008 to 67 percent in 2011, and thereafter, the target would decline at a constant rate from 67 to 60 percent by 2032.

Any change made to the rebuilding plan and implementing measures, however, is contingent on successfully ending overfishing in the next 3 years and would require further action be recommended by the Council and subsequently approved by NMFS. To increase the probability of successfully rebuilding the red snapper stock, the rebuilding plan and management measures would be reviewed and adjusted, as necessary, based on periodic stock assessments.

Measures To Reduce Directed Fishing Mortality

To reduce fishing mortality and end overfishing of the red snapper stock in the Gulf of Mexico, the proposed rule would reduce the existing quotas for the commercial and recreational fisheries. The proposed rule would establish a commercial quota of 2.55 million lb (1.16 million kg) and a recreational quota of 2.45 million lb (1.11 million kg). Because of the individual fishing quota program in the commercial fishery, no measures are proposed to further constrain commercial harvest to its 2.55 million lb (1.16 million kg) quota, but measures are proposed to constrain the recreational harvest to its quota of 2.45 million (1.11 million kg). The Council considered various size limit and bag limit combinations which would determine the length of the recreational fishing season. The proposed two-fish bag limit would allow a June 1 through September 15 (107-day) recreational fishing season. In addition to the two-fish bag limit, constraining the captain and crew of for-hire vessels to a zero-fish bag limit would allow the fishing season to be extended through the end of September (122 days). Based on extensive public comment, the Council chose to assume a 10-percent reduction in post-hurricane fishing effort and landings when evaluating recreational management measures. Application of this assumption, along with implementation of the two-fish bag limit and the zero-fish captain and crew limit of for-hire vessels, would allow the recreational fishing season to extend from May 15 through October 15 (154 days). Although preliminary data suggest some declines have occurred since the 2005 hurricane season, the magnitude of reductions varies by fishing sector, is often less than 10 percent, and in some cases effort or landings have increased. Further, it is unknown how long post-hurricane reductions in landings and fishing effort may continue as the fisheries recover. The Council's recommended alternative for Action 1 of Amendment 27/14 includes, among other things, a recreational fishing season of 107 days, which when coupled with the zero captain and crew bag limit, results in a 122-day recreational season (June 1-September). However, the Council's recommended alternative for Action 2 would apply an assumed 10-percent reduction in post-hurricane recreational fishing effort to the measures in Action 1. Doing so results in a recreational fishing season of 154 days. In light of the foregoing discussion, NMFS proposes the recommended recreational season in Action 1, 107 days, coupled with the zero captain and crew bag limit, which results in a 122-day recreational season (June 1-September). NMFS also proposes, in the alternative, the longer 154-day recreational fishing season resulting from the Council's recommended alternative for Action 2. NMFS specifically requests comments on the assumed 10-percent reduction in effort and landings as recommended in Amendment 27/14, which would affect the designation of the length of the recreational fishing season established by this rule.

The existing 16-inch (41-cm) TL recreational minimum size limit would remain unchanged. Public comments during development of the amendment indicated most anglers preferred a longer fishing season rather than a lower minimum size limit. Lowering the recreational minimum size limit would have substantially shortened the fishing season to compensate for increases in angler catch rates. Although most anglers preferred a longer fishing season, they did not support a further reduction of the bag limit to one fish to further extend the fishing season because a one-fish bag limit was considered too low to provide a satisfactory recreational fishing trip.

Measures To Reduce Bycatch Mortality in the Directed Fishery

Reductions in red snapper bycatch (regulatory discards) are needed in all sectors of the directed red snapper fishery to reduce overfishing in the short term and to recover the stock over the long term. The proposed rule would reduce the commercial size limit from 15 inches (38 cm) TL to 13 inches (33 cm) TL. This reduction in the size limit is expected to reduce dead discards by 40 to 60 percent and allow the stock to recover in a shorter time period. The proposed rule would also require the use of circle hooks, venting tools, and dehooking devices to reduce bycatch and bycatch mortality when fishing for Gulf reef fish in the exclusive economic zone (EEZ). It is unknown to what extent bycatch or bycatch mortality will be reduced by these gears, but all of these gears have been shown to increase the survival of released fish.

Measures To Reduce Shrimp Trawl Bycatch Mortality

To end overfishing of red snapper between 2009 and 2010, the 2005 assessment for red snapper indicated the benchmark 2001-2003 level of red snapper bycatch mortality attributable to shrimp fishing must be reduced by 74 percent. The proposed rule would establish an initial reduction target 74 percent less than the benchmark. The proposed rule would also describe the process by which the target goals for bycatch mortality could be reduced over time, consistent with the stock rebuilding plan and subsequent stock assessments, through appropriate rulemaking. If stock rebuilding targets are met over the next 3 years and overfishing is ended, the target bycatch mortality goal for the shrimp fishery would then be decreased to 67 percent of the 2001-2003 benchmark beginning in 2011. Thereafter, the target goal would be reduced at a constant rate to achieve a target reduction goal of 60 percent less than the benchmark by 2032. However, any such change would occur only after the Council and NMFS reviewed updated information regarding the status of the red snapper stock and the rebuilding projections.

Subsequent to the benchmark years of 2001-2003, effort in the offshore shrimp fishery has declined dramatically due to external economic issues, such as increasing fixed costs (fuel, ice, etc.), imports, and stagnant shrimp prices. Juvenile red snapper are more abundant in the 10-30 fathom (18-55 m) depth strata from Mobile Bay, Alabama, to Brownsville, Texas, and effort reductions in this particular area are substantial. Effort within this area can be used as a proxy for bycatch mortality on juvenile red snapper. Bycatch mortality on juvenile red snapper in 2005 for the 10-30 fathom (18-55 m) depth strata was approximately 60 percent less than the benchmark 2001-2003 period, and in 2006, bycatch mortality was 65 percent less than the benchmark period. Early estimates for 2007 suggest effort in the Gulf shrimp fishery may be lower than in 2006.

To ensure the remaining reductions needed to meet the 74-percent target, the proposed rule would set forth the procedure by which NMFS would establish seasonal area closures for the Gulf shrimp fishery consistent with the framework procedures established in Amendment 27/14. Such closures, if necessary, would be established within some or all of the area that approximates the 10-30 fathom (18-55 m) depth strata from Mobile Bay, Alabama, to the Louisiana-Texas boundary. The proposed rule identifies an eastern zone, a Louisiana zone, and a Texas zone, bounded by coordinates marking the maximum closed area. The geographical scope and duration of the closure would be dependent on the level of effort reduction needed to meet the 74-percent reduction target. As an example, if the closure included the maximum area defined and covered the typical 60-day time period of the Texas closure, based on the level of effort expended in this area during recent years, such a closure would provide as much as a 24-percent reduction in fishing mortality on juvenile red snapper. Should additional closure of the shrimp fishery be needed after reopening Federal waters off Texas in July, the closure could be expanded to include waters off Texas as well as areas east of Texas.

To implement such a closure in accordance with the framework procedures established in Amendment 27/14, on or about March 1, NMFS would use the most recent 12-month period of shrimp effort data available, and assess the level of effort within the areas where red snapper are abundant. The NMFS Southeast Regional Administrator would, based on an assessment from the NMFS Southeast Fisheries Science Center, determine the geographical scope and duration of a closure needed to meet the bycatch mortality reduction target, and implement a closure intended to begin on the same date and time as the Texas closure. Coordinating the timing of the framework closure with that of the long-standing Texas closure would facilitate enforcement efforts by simplifying regulations for both fishermen and law enforcement agents. If the RA determines that a framework closure is necessary, the closure falls within the scope of the potential closures evaluated in the FMP such as coordination of any closure with the Texas closure, and good cause exists to waive notice and comment pursuant to the Administrative Procedure Act, NMFS will implement the closure by publication of a final rule in the Federal Register. If such good cause waiver is not justified, NMFS will implement the closure via appropriate notice and comment rulemaking.

Classification

Pursuant to section 304(b)(1)(A) of the Magnuson-Stevens Act, I have determined that this proposed rule is consistent with Amendment 27/14, other provisions of the Magnuson-Stevens Act, and other applicable law, subject to further consideration after public comment.

This proposed rule has been determined to be significant for purposes of Executive Order 12866.

NMFS prepared a SEIS for this amendment. A notice of availability for the draft SEIS was published on April 20, 2007 (72 FR 19928). A notice of availability for the final SEIS was published on August 3, 2007 (72 FR 43271).

NMFS prepared an IRFA, as required by section 603 of the Regulatory Flexibility Act, for this proposed rule. The IRFA describes the economic impact this proposed rule, if adopted, would have on small entities. A description of the action, why it is being considered, and the objectives of, and legal basis for this action are contained at the beginning of this section in the preamble and in the SUMMARY section of the preamble. A copy of the full analysis is available from the Council (see ADDRESSES). A summary of the IRFA follows.

The Magnuson-Stevens Act provides the statutory basis for the proposed rule. The proposed rule would reduce the commercial quota from 4.65 million lb (2.14 million kg) to 2.55 million lb (1.16 million kg) and the recreational quota from 4.47 million lb (2.06 million kg) to 2.45 million lb (1.11 million kg), reduce the recreational bag limit from four fish to two fish and the bag limit for captain and crew of for-hire vessels to zero, reduce the commercial minimum size limit from 15 inches (38 cm) TL to 13 inches (33 cm) TL, require participants in all Gulf reef fish fishery sectors to use non-stainless steel circle hooks (when using natural baits) and to use venting tools and dehooking devices, and provide for seasonal area closures of the Gulf shrimp fishery to reduce red snapper bycatch consistent with Amendment 27/14's framework procedure. In addition, the proposed rule would assume a 10-percent reduction in recreational red snapper effort and landings due to hurricane effects or in the alternative, not assume the 10-percent effort reduction, establish a target reduction goal for shrimp trawl bycatch mortality on red snapper, establish options for time-area closures for the shrimp fishery that would maintain the target reduction goal, and establish a framework whereby NMFS could adjust the target reduction goal and time-area closures. NMFS specifically requests comments on the assumed 10-percent reduction in effort and landings as recommended in Amendment 27/14, which would affect the designation of the length of the recreational fishing season established by this rule.

The purpose of this proposed rule is to reduce red snapper catch, bycatch, and discard mortality in the directed commercial and recreational fisheries and the shrimp fishery in order to end overfishing for red snapper between 2009 and 2010 and rebuild the stock by 2032 in compliance with the red snapper rebuilding plan.

No duplicative, overlapping or conflicting Federal rules have been identified.

Management actions considered in this proposed rule are expected to affect all vessels that operate in the commercial red snapper fishery, all vessels that have a Federal reef fish for-hire permit, and all dealers and processors that handle product from these fisheries. Although this proposed rule contains actions that pertain to the commercial shrimp fishery, these actions are not expected to impose any direct adverse impacts on the fishery or associated entities.

Prior to the January 2007 implementation of the red snapper individual fishing quota program (IFQ), 136 entities held Class 1 licenses that allowed a commercial vessel trip limit of up to 2,000 lb (907 kg) of red snapper and 628 entities held Class 2 licenses that allowed a trip limit of up to 200 lb (91 kg) of red snapper. Between 2002 and 2004, the top 50 red snapper vessels in terms of landings harvested 2.77 million lb (1.26 million kg) of red snapper, on average, or 64 percent of the industry total. Vessels ranked 51 to 131 harvested 1.29 million lb (0.59 million kg), on average, or 30 percent of the industry total for the same period. Thus, the top 131 red snapper vessels accounted for approximately 94 percent of the total industry red snapper landings. Red snapper are mainly harvested by fishermen using vertical-line gear. These fishermen accounted for approximately 90 percent of commercial red snapper Gulf harvests, on average, between 2002 and 2004.

Average annual gross receipts (2004 dollars) and net income (gross receipts minus all costs) per vessel vary by gear type, area fished, and volume of catch. High-volume vessels using vertical lines averaged gross receipts and net income of $110,070 and $28,466 in the northern Gulf, but only $67,979 and $23,822 in the eastern Gulf. Low-volume vessels using vertical lines averaged gross receipts and net income of $24,095 and $6,801 in the northern Gulf, but $24,588 and $4,479 respectively in the eastern Gulf. Vessels using bottom longlines averaged gross receipts and net income of $116,989 and $25,452 for high-volume vessels, but only $87,635 and $14,978 respectively for low-volume vessels.

The current fleet permitted to operate in the Gulf reef fish for-hire sector is estimated to be 1,625 vessels. The for-hire fleet is comprised of charterboats, which charge a fee on a vessel basis, and headboats, which charge a fee on an individual angler (head) basis. The average charterboat is estimated to generate $76,960 in annual revenues and $36,758 in annual profits, whereas the appropriate values for the average headboat are $404,172 and $338,209, respectively. On average, both charterboats and headboats operate at about 50 percent of their passenger capacity per trip.

The measures in this action would also be expected to affect fish dealers, particularly those that receive red snapper from harvesting vessels. A Federal permit is required for a fish dealer to receive reef fish from commercial vessels, and there are 227 dealers currently permitted to buy and sell reef fish species. All reef fish processors would be included in this total because all processors must be dealers. Most of these dealers are located in Florida (146), with 29 in Louisiana, 18 in Texas, 14 in Alabama, 5 in Mississippi, and 15 in states outside the Gulf. In addition, vessels identify the dealers who receive their fish on logbook reports. Commercial reef fish vessels with Federal permits are required to sell their harvest only to permitted dealers. From 1997 through 2002, on average, 154 reef fish dealers actively bought and sold red snapper. These dealers were distributed around the Gulf as follows: 7 in Alabama, 96 in Florida, 22 in Louisiana, 7 in Mississippi, and 22 in Texas. On average, Florida dealers purchased approximately $1.8 million of red snapper, followed by Louisiana ($1.4 million), Texas ($1.3 million), Mississippi ($174,000), and Alabama ($88,000). These dealers may hold permits for multiple fisheries, but it is not possible to determine what percentage of their total business comes from the red snapper fishery.

Although it is unknown how many eligible shrimp permit holders will apply for moratorium permits and, thus, would be potentially affected by this action, 2,666 vessels would qualify for the shrimp permit and are assumed to constitute the potentially affected universe of shrimp vessels. The average annual gross revenue (all harvest species) per qualifying vessel in 2005 was approximately $116,000, while the comparable figure for qualifying vessels active in the Gulf shrimp fishery, i.e., vessels with recorded shrimp landings in 2005, was approximately $152,000. In the same year, the maximum annual gross revenue from shrimp by a vessel was approximately $757,000 for both all qualifying and active qualifying vessels, whereas the figure for all harvest species was approximately $1.89 million by an inactive qualifier and $757,000 for an active qualifier.

The most recent projection of performance in the commercial shrimp fishery indicated that the average vessel, across all vessel size categories, experienced a negative 33-percent rate of return and that economic losses would continue until 2012. Thus, almost any but the most minor additional financial burden would be expected to generate a significant adverse impact on affected vessels and potentially hasten additional exit from the fishery.

In 2005, 609 dealers were identified operating in the commercial shrimp fishery. Employment information for this sector is not available. In 2005, 60 processors in the shrimp fishery were identified, employing approximately 3,400 persons, or an average of 56 employees per entity. The maximum number of employees for a shrimp processor in 2005 was 353.

The Small Business Administration (SBA) defines a small business in the commercial fishing industry as an entity that is independently owned and operated, is not dominant in its field of operation (including its affiliates), and has total annual average receipts not in excess of $4.0 million annually (NAICS codes 114111 and 114112, finfish and shellfish fishing). For for-hire vessels, these same criteria apply except that the annual receipts threshold is $6.5 million (NAICS code 713990, recreational industries). For seafood processors and dealers, the SBA uses an employee threshold rather than a receipts threshold. The threshold is 500 or fewer persons on a full-time, part-time, temporary, or other basis, at all its affiliated operations worldwide for a seafood processor and 100 or fewer persons for a seafood dealer.

Some persons/entities are known to own multiple vessels (i.e. fleet operations) in the commercial red snapper fishery and in the commercial reef fish fisheries in general, but the extent of such operations is unknown. The maximum number of reef fish permits reported owned by the same person/entity is 6 permits. Additional permits and the revenues associated with those permits may be linked to an entity through affiliation rules, but such affiliation links cannot be made using existing data. Further, a definitive determination of whether any commercial entity would be considered a large entity cannot be made using average revenue information. However, since the average total revenue in the commercial red snapper fishery between 2002 and 2004 was $11.652 million, given the number of license holders in the fishery is 764, the summary statistics and the maximum number of permits owned by a single person/entity provided above, NMFS determined that all commercial reef fish harvest entities that would be affected by this action are small entities.

Fleet operations also exist in the for-hire sector, with at least one entity reported to hold 12 permits. The bulk of the fleet, however, consists of single permit operations. Thus, based on the average revenue figures above, all for-hire operations affected by this proposed rule are small entities.

Average employment per reef fish dealer is unknown. Although dealers and processors are not synonymous entities, total employment for reef fish processors in the Southeast is approximately 700 individuals, both part and full time. While all processors must be dealers, a dealer need not be a processor. Further, processing fish is a much more labor intensive than buying fish. Therefore, given the employment estimate for the processing sector and the number of dealers that participated in the fishery on average per year from 1997-2002 (154 dealers), NMFS assumed that the maximum number of employees for reef fish dealers and processors are unlikely to surpass the SBA employment benchmarks. Therefore, all reef fish dealers and processors affected by this proposed rule are small entities.

While gross revenues vary between shrimp vessels of different physical size, these differences do not affect the assessment of maximum gross revenue per vessel and the subsequent determination of whether shrimp vessels constitute large or small entities. As with the other sectors, fleet operations are known to exist in the commercial shrimp fishery, but the magnitude of such cannot be determined using available data. Given these findings, and the maximum revenue per vessel figures noted above, NMFS determined that all shrimp vessels that could be affected by this proposed rule are small entities.

Similar to the reef fish industry, processing shrimp is more labor intensive than buying shrimp. Thus, average employment in the shrimp dealer sector is assumed to be less than that in the processing sector. Because the maximum number of employees for a shrimp processor does not exceed the SBA threshold, all shrimp dealers and processors that could be affected by this proposed rule are small entities.

The proposed red snapper recreational and commercial quota decreases are expected to reduce profits in the for-hire and commercial sectors. In the for-hire sector, declines in profits, approximated by net operating revenue (gross revenue minus operating costs except labor) decreases, are expected due to declines in individual angler trip bookings. Under the proposed 2.45 million lb (1.11 million kg) recreational quota and two-fish bag limit, the estimated annual net operating revenue losses to the for-hire sector are approximately $1.1 million. It is not possible to accurately estimate the extent to which individual for-hire operations will be affected by the proposed quota reduction. However, a simple average suggests that, for the 1,625 vessels active in the for-hire sector, the average annual net operating revenue loss would approximate $680 per vessel. This simple arithmetic mean does not provide information on losses that may be incurred by a specific for-hire operation. Depending on the geographic location of their operation, level of activity, reliance on red snapper trips, diversity of species available, and preferences of their core clientele, some vessels likely would be impacted more than others. Quantifying the number of vessels that might face greater economic losses is not possible with available data. However, in general, the average impact per vessel will vary inversely with the number of vessels included in this core group. For example, if expected economic impacts were borne by 10 to 25 percent of the fleet, average losses in net operating revenue per vessel would be expected to range from approximately $2,700 to $6,800.

The assessment of impacts on for-hire profits was based on the recreational quota and not season length. Although industry comment indicated that a longer open season was preferable to a shorter season, regardless of total allowable catch, and would result in less economic losses, estimating the differential economic impacts of season length was not possible with available data, and the estimated reduction in for-hire profits as a result of the proposed recreational quota is neutral with respect to season length. If red snapper season length is a significant factor in for-hire profits, then the estimated $1.1 million losses could understate by an indeterminate amount the impacts of the shorter season that would occur if a 10-percent reduction in recreational red snapper effort and landings due to hurricane effects is not assumed in the determination of season length.

For the commercial red snapper sector, reductions in profits, as measured by changes in net operating revenue to owners, captains, and crew, are expected to result from revenue losses associated with lower snapper harvests. Net operating revenue losses due to the commercial quota reduction would be mitigated by the action to lower the commercial size limit. The impact analysis for the commercial red snapper sector assumed the fishery was operating under an individual fishing quota program (IFQ), which was implemented in January 2007. Under the IFQ, the number of vessels operating in the fishery is expected to decline substantially as quota shares are consolidated. However, since the IFQ program has only recently been implemented, substantive data on the expected contraction is not yet available to indicate the size and type of fleet that will ultimately occur. Therefore, analysis of the quota reduction impacts assumed the fleet would contract to homogenous fleets of a specific vessel size and accompanying operational characteristics, with the resultant fleet comprised of either more small vessels (35 ft (10.7 m)) or fewer large vessels (65 ft (19.8 m)).

Under the status quo commercial quota of 4.65 million lb (2.14 million kg), for the smallest (35 ft (10.7 m)) and largest (65 ft (19.8 m)) vessel length class considered, the fleet would be composed of either ninety-five 35-ft (10.7-m) vessels or thirty-nine 65-ft (19.8-m) vessels. The average annual net operating revenue per vessel within each vessel size class was estimated at $274,000 and $667,000, respectively. Under the proposed 2.55 million lb (1.16 million kg) commercial quota, projected losses in net operating revenues to owners, captains, and crew in the commercial sector are estimated to be approximately $11.5 million. The fleet would be composed of either fifty-two 35-ft (10.7-m) or twenty-two 65-ft (19.8-m) vessels, representing a reduction of either forty-three 35-ft (10.7-m) vessels or seventeen 65-ft (19.8-m) vessels. For each of these potential fleets, the corresponding average net operating revenue for remaining vessels was estimated at $278,000 and $665,000, respectively. Average short-term net operating revenue losses per vessel are therefore estimated at $121,000 and $295,000 for the 35-ft (10.7-m) and 65-ft (19.8-m) vessel classes, respectively.

The proposed commercial quota reduction is also expected to adversely impact dealers and processors involved in the red snapper trade. Although substantial decreases in revenues collected from domestic red snapper are anticipated, the lack of firm-level gross revenues and profit data precludes quantification of the expected losses. To mitigate the adverse economic impacts that would result from the proposed 45-percent decrease in the commercial quota, dealers and processors may increase their reliance on imported snapper and their use of other reef fish species as substitutes.

Preventing captain and crew from retaining a red snapper bag limit while on charter is not expected to affect the profitability of for-hire operations because the sale of recreational reef fish landings is already prohibited. The proposed requirement for all persons aboard reef fish vessels to use non-stainless steel circle hooks (when using natural baits), venting tools, and dehooking devices is expected to result in minimal impacts on the profitability of small entities because of the current widespread use of circle hooks, their competitive pricing, and the availability of dehooking devices and venting tools for less than $15 each.

The management measures considered in this proposed rule do not affect the reporting or record-keeping requirements for reef fish and shrimp vessels, dealers, or processors. This proposed action does not require additional records or report preparation.

Four alternatives, including the status quo, were considered for the action to set TAC and, thus, establish the recreational and commercial quotas in the red snapper fishery. Three of the alternatives include multiple options and sub-options to manage the recreational fishery under the respective TACs and quotas. The first alternative, the status quo, would not be consistent with assumptions related to expected reductions in directed and bycatch mortality rates and would not, as indicated by the March 12, 2007 Court Opinion (Coastal Conservation Association v. Gutierrez et al., Case No. H-05-1214, consolidated with Gulf Restoration Network et al., v. Gutierrez et al., Case No. H-05-2998), be associated with a sufficient probability of the red snapper rebuilding plan's success. If implemented, the status quo alternative would result in drastic TAC and quota reductions in subsequent years and, thus, greater adverse economic impacts during that time in order for the resource to continue on the designated recovery path.

The second alternative to the proposed TAC action would have reduced the red snapper TAC to 7.0 million lb (3.175 million kg), with resultant commercial and recreational quotas of 3.57 and 3.43 million lb (1.62 and 1.44 million kg), respectively. This alternative has the potential of generating, depending upon the sub-option selected, lower short-term adverse economic impacts than the proposed action. However, a 7.0 million lb (3.175 million kg) TAC is neither consistent with the current mortality reduction assumptions nor is it in accordance with the findings of the recent Court Opinion. Like the status quo, this alternative would require greater TAC reductions in subsequent years, thereby generating greater adverse economic impacts over that time than the proposed rule.

The third alternative to the proposed TAC action would have reduced the red snapper TAC to 3.0 million lb (1.36 million kg), with resultant commercial and recreational quotas of 1.53 and 1.47 million lb (0.69 and 0.67 million kg), respectively. This alternative would have reduced the TAC and quotas more than necessary to end overfishing within the specified time period and would be expected to result in an overly restrictive management approach with unnecessary and greater adverse economic impacts than the proposed rule.

Three alternatives, including the proposed status quo action and the alternative proposed 10-percent reduction, were considered for the action addressing post-hurricane effort and landings reduction. Although some post-hurricane reduction in effort and landings is demonstrated by available data, the reductions are not consistent across the entire fishery and are not expected to persist as the industry recovers. The proposed action could potentially result in a shorter season than necessary to end overfishing, thereby increasing short-term adverse economic impacts. The alternative proposed action, a 10-percent reduction in post-hurricane effort in the red snapper fishery, would extend the fishing season and yield greater short-term economic benefits than the proposed action. However, this reduction may not be supported by available data and may therefore result in a failure to meet conservation goals, resulting in long-term negative economic impacts relative to the proposed action. The alternative to the proposed actions would assume a 25-percent reduction in post-hurricane effort and landings. This alternative, which would result in a longer season than the proposed action, would result in greater short-term economic benefits than the proposed action. However, a 25-percent reduction is not supported by available data, is believed to be an excessive assumption, and would be expected to result in a failure to meet conservation goals, resulting in substantial long-term negative economic impacts relative to the proposed action.

Two alternatives, including the status quo, were considered for the captain and crew bag limit action. Analyses indicate that under the proposed action to reduce the captain and crew bag limit to zero, the recreational red snapper fishing season could remain open 4-16 days longer relative to the status quo. The status quo alternative would require more restrictive measures on recreational anglers (i.e., shorter open season, lower bag limit) to achieve rebuilding goals, because the fish retained by the captain and crew would represent an additional source of mortality that would have to be factored into harvest controls. These more restrictive measures would be expected to result in greater reductions in trip demand than the proposed angler restrictions, resulting in increased reductions in for-hire profits and angler value than the proposed action.

Three alternatives, including the status quo, were considered for the commercial red snapper minimum size limit. The first alternative to the proposed action, the status quo, would be expected to result in continued unnecessary bycatch mortality and would not, therefore, meet the Council's objectives. The proposed 13-inch (33-cm) minimum size limit in the commercial sector would be expected to result in decreased economic impacts to the fishery and associated industries due to anticipated increases in the operational efficiency of commercial vessels and a potential price premium for smaller fish. The third alternative would eliminate the commercial minimum size limit. Eliminating the commercial size limit would exacerbate user conflicts between the commercial and recreational sectors since the recreational sector would have a 16-inch (41-cm) minimum size limit, while the commercial sector would not have any minimum size limit. Further, since no commercial market is known to exist for red snapper smaller than 12 inches (30 cm), no additional benefits would be expected to accrue to the commercial sector, and total economic impacts to the commercial sector would be expected to be comparable to those of the proposed action.

Three alternatives, including the status quo, were considered for the gear requirement action. The two alternatives encompassing gear requirements contained options that specified the fisheries over which the requirements would apply. The proposed action would require the use of non-stainless steel circle hooks when using natural baits, and require the use of venting tools and dehooking devices from all participants in the reef fish fisheries of the Gulf of Mexico. By reducing bycatch and bycatch mortality in the red snapper and reef fish fisheries, the proposed action would contribute to improving the likelihood of success of the red snapper rebuilding plan and is expected to result in long-term net economic benefits. The sub-options that reduced the fisheries to which the proposed gear requirements would apply would be expected to result in less reduction in bycatch mortality and long-term economic benefits than the proposed rule. However, in general, however, little economic impact is anticipated because of the already widespread use of circle hooks and the fact that venting/dehooking devices are relatively inexpensive (less than $15 each).

The first alternative to the proposed gear action would not impose any new gear requirements on fishermen and would not, in the short term, result in any direct adverse economic impacts. However, this alternative would not contribute to improving the likelihood of success of the red snapper rebuilding plan. Relative to the proposed action, this alternative could result in more severe restrictions on fishery participants in the long run and, thus, generate greater adverse economic impacts.

The second alternative and associated fishery sub-options to the proposed gear action would specify only a minimum hook size. Compared to the proposed action, this alternative would be less effective in reducing bycatch and bycatch mortality. As a result, in the long run, it would be expected to result in smaller economic benefits than the proposed action.

Six alternatives, including the status quo, were considered for the bycatch reduction target in the commercial shrimp fishery. The status quo would not have established a bycatch reduction target, would not ensure consistent reductions in bycatch fishing mortality on juvenile red snapper in the shrimp fishery, and would not be consistent with the 2005 SEDAR assessment recommendations to further reduce bycatch fishing mortality rates on the red snapper stock. The proposed action, which would establish a target reduction of shrimp trawl bycatch mortality on red snapper 74 percent less than the benchmark years of 2001-2003, is consistent with the proposed quotas and an increased probability of the red snapper rebuilding plan's success. The proposed action, which also specifically outlines the future progression of the bycatch mortality reduction target if overfishing is successfully ended by 2010 based upon review of status reports and other relevant information, would be an administrative action with no expected direct adverse economic effects.

The second and third alternatives to the proposed bycatch reduction target would establish lower reduction targets than the proposed action. Like the proposed action, these alternatives are not expected to result in direct adverse economic impacts. However, the lower targets do not contribute sufficiently to increasing the likelihood of the red snapper rebuilding plan's success and could be expected to require further effort reductions, resulting in more severe management measures in the long run. The fourth alternative to the proposed action would, as the proposed action, establish a 74-percent reduction in shrimp trawl bycatch mortality on red snapper, but would not specify changes to the target or the method by which the target might be adjusted in the future. Similarly, the fifth alternative to the proposed action would establish a 74-percent reduction in shrimp trawl bycatch mortality on red snapper, but would also explicitly link future adjustments to the bycatch reduction target to red snapper stock assessment updates.

Four alternatives, including the status quo, were considered for the action to potentially establish fishing restrictions for the EEZ shrimp fishery in the Gulf of Mexico. The first alternative to the proposed action, the status quo, would not establish potential fishing restrictions for the Gulf shrimp fishery. The status quo would not result in direct or indirect adverse economic impacts because potential restrictions would not be established for the shrimp fishery. However, if status quo effort reductions in the fishery are not sufficient to achieve target goals, this alternative may result in more severe future restrictions and potentially greater adverse economic impacts than the enactment of potential effort restrictions at this time.

The proposed action would, if necessary, establish a seasonal closure beginning on the same start date as the closure of the EEZ off Texas in the 10-to 30-fathom (18- to 55-m) zone of selected areas within statistical zones 10-21 in the Gulf of Mexico. This measure, which would ensure that target reductions in shrimp trawl bycatch mortality are met, is consistent with the proposed quotas, and would contribute to increasing the likelihood of the red snapper rebuilding plan's success. The proposed action is administrative in nature and thus would not be expected to result in any direct economic effects. Direct economic impacts would only accrue if, in the future, it is determined that the proposed bycatch reduction target has not been met and thus a seasonal closure is necessary. The direct economic effects of the closure would be analyzed at that time, as appropriate.

The second and third alternatives to the proposed action would also establish seasonal closures, as necessary, in the 10 to 30-fathom (18- to 55-m) zone of selected areas within statistical zones 10-21 in the Gulf of Mexico but would consider alternative time frames for the closures. As with the proposed action, these alternatives are administrative in nature and thus would not be expected to result in any direct economic effects. Direct economic impacts would only accrue if, in the future, it is determined that the proposed bycatch reduction target has not been met and thus a seasonal closure is necessary. However, compared to the long-term benefits expected to accrue to the red snapper fishery from the proposed action, smaller long-term economic benefits to the red snapper fishery are expected to result from these alternatives. Greater positive impacts associated with the proposed action are attributable to the specified starting date of a potential closure, which would coincide with the movement of age 1 snapper from shrimp grounds to larger structures.

Two alternatives, including the status quo, were considered for the action to establish a framework procedure to adjust effort in the commercial shrimp fishery. The second alternative would establish a framework procedure. The proposed action, which would allow the Regional Administrator to implement closures based upon annual shrimp effort assessments conducted by the Southeast Fisheries Science Center, is expected to be the quickest and most efficient approach to establishing recommended closures. Two other options were considered under the second alternative. These options would establish less expedient means of implementing recommended closures. Direct adverse economic impacts would not be expected to result from the alternatives included in this action because the establishment of a framework procedure to adjust effort in the commercial shrimp fishery is an administrative action.

List of Subjects in 50 CFR Part 622

Fisheries, Fishing, Puerto Rico, Reporting and recordkeeping requirements, Virgin Islands.

Dated: October 19, 2007.
William T. Hogarth,
Assistant Administrator for Fisheries, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.2, the definitions for “circle hook,” “dehooking device,” and “venting device” are added in alphabetical order to read as follows:

§ 622.2 Definitions and acronyms.

* * * * *

Circle hook means a fishing hook designed and manufactured so that the point is turned perpendicularly back to the shank to form a generally circular, or oval, shape.

* * * * *

Dehooking device means a device intended to remove a hook embedded in a fish to release the fish with minimum damage.

* * * * *

Venting device means a device intended to deflate the swim bladder of a fish to release the fish with minimum damage.

* * * * *

3. In § 622.31, paragraph (o) is added to read as follows:

§ 622.31 Prohibited gear and methods.

* * * * *

(o) Stainless steel hooks in the Gulf EEZ. Stainless steel hooks may not be used to fish for Gulf reef fish when using natural bait in the Gulf EEZ.

4. In § 622.34, paragraph (l) is added and the first sentence of paragraph (m) and is revised to read as follows:

§ 622.34 Gulf EEZ seasonal and/or area closures.

* * * * *

(l) Closures of the Gulf shrimp fishery to reduce red snapper bycatch. During a closure implemented in accordance with this paragraph (l), trawling is prohibited within the specified closed area(s).

(1) Procedure for determining need for and extent of closures. Each year, in accordance with the applicable framework procedure established in the FMP for the Shrimp Fishery in the Gulf of Mexico (FMP), the RA will, if necessary, establish a seasonal area closure for the shrimp fishery in all or a portion of the areas of the Gulf EEZ specified in paragraphs (l)(2) through (l)(4) of this section. The RA's determination of the need for such closure and its geographical scope and duration will be based on an annual assessment, by the Southeast Fisheries Science Center, of the shrimp effort and associated shrimp trawl bycatch mortality on red snapper in the 10-30 fathom area of statistical zones 10-21, compared to the 74-percent target reduction of shrimp trawl bycatch mortality on red snapper from the benchmark years of 2001-2003 established in the FMP. The framework procedure provides for adjustment of this target reduction level, consistent with the red snapper stock rebuilding plan and the findings of subsequent stock assessments, via appropriate rulemaking. The assessment will be based on shrimp effort data for the most recent 12-month period available and will include a recommendation regarding the geographical scope and duration of the closure. The Southeast Fisheries Science Center's assessment will be provided to the RA on or about March 1 of each year. If the RA determines that a closure is necessary, the closure falls within the scope of the potential closures evaluated in the FMP, and good cause exists to waive notice and comment, NMFS will implement the closure by publication of a final rule in the Federal Register. If such good cause waiver is not justified, NMFS will implement the closure via appropriate notice and comment rulemaking. NMFS intends that any closure implemented consistent with this paragraph (l) will begin on the same date and time as the Texas closure.

(2) Eastern zone. The eastern zone is bounded by rhumb lines connecting, in order, the following points:

Point | North lat. | West long.
A | 29°14′ | 88°57′
B | 29°24′ | 88°34′
C | 29°34′ | 87°38′
D | 30°04′ | 87°00′
E | 30°04′ | 88°41′
F | 29°36′ | 88°37′
G | 29°21′ | 88°59′
A | 29°14′ | 88°57′

(3) Louisiana zone. The Louisiana zone is bounded by rhumb lines connecting, in order, the following points:

Point | North lat. | West long.
A | 29°09.1′ | 93°41.4′
B | 29°09.25′ | 92°36′
C | 28°35′ | 90°44′
D | 29°09′ | 89°48′
E | 28°57′ | 89°34′
F | 28°40′ | 90°09′
G | 28°18′ | 90°33′
H | 28°25′ | 91°37′
I | 28°21.7′ | 93°28.4′
A | 29°09.1′ | 93°41.4′

(4) Texas zone. The Texas zone is bounded by rhumb lines connecting, in order, the following points:

Point | North lat. | West long.
A | 29°09.1′ | 93°41.4′
B | 28°44′ | 95°15′
C | 28°11′ | 96°17′
D | 27°44′ | 96°53′
E | 27°02′ | 97°11′
F | 26°00.5′ | 96°57.3′
G | 26°00.5′ | 96°35.85′
H | 26°24′ | 96°36′
I | 26°49′ | 96°52′
J | 27°12′ | 96°51′
K | 27°39′ | 96°33′
L | 27°55′ | 96°04′
M | 28°21.7′ | 93°28.4′
A | 29°09.1′ | 93°41.4′

(m) * * * The recreational fishery for red snapper in or from the Gulf EEZ is closed from January 1 through May 31 and from October 1 through December 31, each year. * * *

* * * * *

5. In § 622.37, paragraph (d)(1)(iv) is revised to read as follows:

§ 622.37 Size limits.

* * * * *

(d) * * *

(1) * * *

(iv) Red snapper—16 inches (40.6 cm), TL, for a fish taken by a person subject to the bag limit specified in § 622.39 (b)(1)(iii) and 13 inches (38.1 cm), TL, for a fish taken by a person not subject to the bag limit.

* * * * *

6. In § 622.39, paragraph (b)(1)(iii) is revised to read as follows:

§ 622.39 Bag and possession limits.

* * * * *

(b) * * *

(1) * * *

(iii) Red snapper—2. However, no red snapper may be retained by the captain or crew of a vessel operating as a charter vessel or headboat. The bag limit for such captain and crew is zero.

* * * * *

7. In § 622.41, paragraph (m) is added to read as follows:

§ 622.41 Species specific limitations.

* * * * *

(m) Required gear in the Gulf reef fish fishery. For a person on board a vessel to fish for Gulf reef fish in the Gulf EEZ, the vessel must possess on board and such person must use the gear as specified in paragraphs (m)(1) through (m)(3) of this section.

(1) Non-stainless steel circle hooks. Non-stainless steel circle hooks are required when fishing with natural baits.

(2) Dehooking device. At least one dehooking device is required and must be used to remove hooks embedded in Gulf reef fish with minimum damage. The hook removal device must be constructed to allow the hook to be secured and the barb shielded without re-engaging during the removal process. The dehooking end must be blunt, and all edges rounded. The device must be of a size appropriate to secure the range of hook sizes and styles used in the Gulf reef fish fishery.

(3) Venting tool. At least one venting tool is required and must be used to deflate the swimbladders of Gulf reef fish to release the fish with minimum damage. This tool must be a sharpened, hollow instrument, such as a hypodermic syringe with the plunger removed, or a 16-gauge needle fixed to a hollow wooden dowel. A tool such as a knife or an ice-pick may not be used. The venting tool must be inserted into the fish at a 45-degree angle approximately 1 to 2 inches (2.54 to 5.08 cm) from the base of the pectoral fin. The tool must be inserted just deep enough to release the gases, so that the fish may be released with minimum damage.

8. In § 622.42, paragraphs (a)(1)(i) and (a)(2) are revised to read as follows:

§ 622.42 Quotas.

* * * * *

(a) * * *

(1) * * *

(i) Red snapper—2.55 million lb (1.16 million kg), round weight.

* * * * *

(2) Recreational quota for red snapper. The following quota applies to persons who harvest red snapper other than under commercial vessel permits for Gulf reef fish and the commercial quota specified in paragraph (a)(1)(i) of this section—2.45 million lb (1.11 million kg), round weight.

* * * * *

9. In § 622.48, paragraph (i) is revised to read as follows:

§ 622.48 Adjustment of management measures.

* * * * *

(i) Gulf shrimp. Closed seasons and areas, target effort and fishing mortality reduction levels, bycatch reduction criteria, BRD certification and decertification criteria, BRD testing protocol, certified BRDs, and BRD specification.

* * * * *

[FR Doc. 07-5245 Filed 10-19-07; 12:54 pm]

BILLING CODE 3510-22-P